DEPARTMENT OF TRANSPORTATION

Federal Aviation Administration

Advisory Circular (AC) 23.1523, Minimum Flight Crew

AGENCY: Federal Aviation Administration, DOT.

ACTION: Notice of issuance of advisory circular.

SUMMARY: This notice announces the issuance of Advisory Circular (AC) 23.1523. This Advisory Circular (AC) sets forth one method that may be used to show compliance to the requirements contained within 14 CFR, part 23, 23.1523, which prescribes the certification requirements for minimum flight crew on part 23 airplanes. This AC is one method that can be used to determine workload factors and issues for normal, utility, acrobatic and commuter category airplanes. Material in this AC is neither mandatory nor regulatory in nature and does not constitute a regulation.

This material is a reference for part 23 airplane manufacturers, modifiers, Federal Aviation Administration (FAA) design evaluation engineers, flight test engineers, engineering flight test pilots [Aircraft Certification Office (ACO), and Flight Standards, and Manufacturers] as well as human factors engineering evaluators. This material may be used by FAA authorized designees to perform workload evaluations. This AC encourages participation and coordination from all the test community participants described above. This AC is consistent with the flight test guidance and workload factors described in the minimum flight crew evaluation sections and workload factors described in AC 23-8B. This AC is an acceptable means of showing compliance for part 23 on flight tests and pilot judgments.

The draft advisory circular was issued for Public Comment on July 2, 2004 (69 FR 40451). When possible, comments received were used to modify the draft advisory circular.

DATES: Advisory Circular (AC) 23.1523 was issued by the Manager, Small Airplane Directorate on January 12, 2005.

How to Obtain Copies: A paper copy of AC 23.1523 may be obtained by writing to the U.S. Department of Transportation, Subsequent Distribution Office, DOT Warehouse, SVC-121.23, Ardmore East Business Center, 3341Q 75th Avenue, Landover, MD 20785, telephone (301) 322-5377, or by faxing your request to the warehouse at (301) 386-5394. The policy will also be available on the Internet at http://www.airweb.faa.gov/AC.

Issued in Kansas City, Missouri on January 12, 2005.
Michael K. Dahl,
Acting Manager, Small Airplane Directorate, Aircraft Certification Service.

[FR Doc. 05-1916 Filed 2-1-05; 8:45 am]

BILLING CODE 4910-13-P